DEPARTMENT OF VETERANS AFFAIRS

Advisory Committee on Women Veterans, Notice of Meeting

The Department of Veterans Affairs (VA) gives notice under Public Law 92-463 (Federal Advisory Committee Act) that the Advisory Committee on Women Veterans will meet April 20-22, 2004, from 8 a.m. to 4:30 p.m., in Room 560, Lafayette Building, 811 Vermont Avenue, NW., Washington, DC 20420. The meeting is open to the public.

The purpose of the Committee is to advise the Secretary of Veterans Affairs regarding the needs of women veterans with respect to health care, rehabilitation, compensation, outreach, and other programs and activities administered by VA designed to meet such needs. The Committee will make recommendations to the Secretary regarding such programs and activities.

On April 20, the agenda will include briefings and updates on issues related to women veterans' issues in VA's Veterans Health Administration, data on recent combat veterans from the Department of Defense Manpower Data Center Database, the release of the Capital Asset Realignment for Enhanced Services (CARES) Report, focus group site visits, compensation and pension benefits, plans for incorporating and providing service to women veterans into VA's Vet Centers, and presentation of a Certificate of Appointment to one new Committee member. On April 21, the Committee will be briefed on legislative issues affecting women veterans, upcoming initiatives of the Center for Women Veterans, and will begin preparation of the 2004 report. On April 22, the Committee will discuss any new issues that the Committee members may introduce, as well as continue preparation of the 2004 report.

Any member of the public wishing to attend should contact Ms. Rebecca Schiller, at the Department of Veterans Affairs, Center for Women Veterans (OOW), 810 Vermont Avenue, NW., Washington, DC 20420. Ms. Schiller may be contacted wither by phone at (202) 273-6193, fax at (202) 273-7092, or e-mail at OOW@mail.va.gov. Interested persons may attend, appear before, or file statements with the Committee. Written statements must be filed before the meeting, or within 10 days after the meeting.

By Direction of the Secretary.
Dated: March 19, 2004.
E. Philip Riggin,
Committee Management Officer.

[FR Doc. 04-6737 Filed 3-25-04; 8:45 am]

BILLING CODE 8320-01-M